DEPARTMENT OF DEFENSE

Department of the Army, Corps of Engineers

Notice of Intent To Prepare an Environmental Impact Statement for the East Rockaway Inlet to Rockaway Inlet and Jamaica Bay Reformulation Study

AGENCY: U.S. Army Corps of Engineers, DOD.

ACTION: Notice of intent.

SUMMARY: In compliance with the National Environmental Policy Act (NEPA), the U.S. Army Corps of Engineers, New York District (Corps) with (New York State Department of Environmental Conservation as local sponsor) is preparing an Environmental Impact Statement (EIS) in accordance with Council on Environmental Quality's NEPA regulations; Corps' principles and guidelines as defined in Engineering Regulations (ER) 1105-2-100, Planning Guidance Notebook, and ER 200-2-2, Procedures for Implementing NEPA; and other applicable Federal and State environmental laws for the proposed Atlantic Coast of New York, East Rockaway Inlet to Rockaway Inlet and Jamaica Bay Coastal Storm Risk Management Feasibility Study. The study is re-assessing the feasibility of coastal storm risk management alternatives to be implemented within the congressionally authorized project area. This overall study area includes the entire Rockaway peninsula as well as the back-bay communities surrounding Jamaica Bay. During Hurricane Sandy, both Rockaway and Jamaica Bay communities were severely affected with large areas subjected to erosion, storm surge, and wave damage along the Atlantic Ocean shoreline and flooding of communities within and surrounding Jamaica Bay. Along the Rockaways, the Atlantic Ocean surge and waves exceeded the island height, resulting in flow of water across the peninsula, and contributing to the flooding along the shoreline of the interior of Jamaica Bay. Hurricane Sandy illustrated the need to re-evaluate the entire peninsula and back-bay area as a system, when considering risk-management measures. Acknowledging the amount of analyses required to comprehensively reevaluate the study area considering the influence of the Atlantic Ocean shorefront conditions on the back-bay system, a single Hurricane Sandy General Reevaluation Report and EIS (GRR/EIS) will be prepared. The Corps will use a tiered process to facilitate project decision-making. The EIS will build upon the extensive Atlantic shoreline alternatives analysis and environmental and technical studies and outreach conducted to date. The proposed tiering approach will allow the study to focus on both broad overall Jamaica Bay-wide issues while simultaneously assessing site specific impacts, costs and mitigation measures for the shorefront and back-bay alternatives. The scope of analysis in the Tier 1 and Tier 2 will be appropriate to the level of detail necessary for those documents and will receive input from the public and reviewing agencies. The Tier 1 shoreline analysis will provide the basis for the alternatives to problems associated with erosion, storm surge, and wave damage along the Atlantic Ocean shoreline the relationship of the shoreline with the back-bay. The Tier 2 analysis will specifically address the flooding of communities within and surrounding Jamaica Bay.

ADDRESSES: Send written comments and suggestions concerning the scope of issues to be evaluated within the EIS to Robert Smith, Project Biologist/NEPA Coordinator, U.S. Army Corps of Engineers, New York District, Planning Division, Environmental, 26 Federal Plaza, New York, NY 10279-0090; Phone: (917) 790-8729; email: robert.j.smith@usace.army.mil.

FOR FURTHER INFORMATION CONTACT: Questions about the overall East Rockaway Inlet to Rockaway Inlet and Jamaica Bay Coastal Storm Risk Management Reformulation Study should be directed to Daniel T. Falt, Project Manager, U.S. Army Corps of Engineers, New York District, Programs and Project Management Division, Civil Works Programs Branch, 26 Federal Plaza, Room 2127, New York, NY 10279-0090; Phone: (917) 790-8614; email: daniel.t.falt@usace.army.mil.

SUPPLEMENTARY INFORMATION:

1. Background

The U.S. Army Corps of Engineers, in partnership with the New York State Department of Environmental Conservation (NYSDEC), is undertaking this study. The original multiple purpose (coastal erosion control and coastal flooding protection) project for East Rockaway Inlet to Rockaway Inlet and Jamaica Bay, New York was authorized by the Flood Control Act of 1965 (Pub. L. 89-298). The authorized project provided for the restoration of a protective beach along 6.2 miles of Rockaway Beach, between Beach 19th Street and Beach 149th Street. The beach erosion control features of the authorized project on the Rockaway Peninsula consists of a 100-foot berm width (i.e., beach) at an elevation of +10 foot NGVD (approximately 8.9 feet NAVD88) over the peninsula's entire project length.

The 1965 authorized project also included measures to provide hurricane damage risk reduction within Jamaica Bay by constructing a hurricane barrier and closure structure across the entrance to Jamaica Bay (Rockaway Inlet). This original project authority was modified by Section 72 of the Water Resources Development Act of 1974 to provide for the separate construction of the beach erosion control on the ocean-front of the Rockaway Peninsula independently from the hurricane barrier addressing Jamaica Bay. For more than 30 years, the ocean-front portion of the authorized project has been maintained; the hurricane barrier portion of the originally authorized project was never constructed and was subsequently de-authorized by the Water Resources Development Act of 1986.

In the early 2000s, the Corps began a reformulation effort to examine possible changes to the originally authorized East Rockaway Inlet to Rockaway Inlet and Jamaica Bay Project. The constructed shorefront features of the Atlantic Coastline (East Rockaway Inlet to Rockaway Inlet) were being reformulated with the goal of: Reducing coastal storm vulnerability to erosion, waves, and surge; identifying measures to reduce long-term re-nourishment costs; and extending federal participation in the project for up to 50 years. The reformulation effort was exclusively examining shorefront features as stand-alone alternatives for addressing shorefront damages. The Corps developed shorefront alternatives with the NYSDEC and the resource agency and public coordination of the shorefront alternatives was ongoing prior to Hurricane Sandy. The reformulation for the Jamaica Bay portion of the study area (i.e., the back-bay communities) had not been advanced prior to Hurricane Sandy due to funding constraints.

In October 2012, Hurricane Sandy made landfall with a combination of massive storm surge, rising water levels and reshaping of local geography. In response to the damages and vulnerability of communities and ecosystems along the Atlantic Coast, the U.S. Congress passed the Disaster Relief Appropriations Act of 2013 (Pub. L. 113-2). In part, directing the Corps of Engineers to “. . . reduce future flood risk in ways that will support the long-term sustainability of the coastal ecosystem and communities and reduce the economic costs and risks associated with large-scale flood and storm events in areas along the Atlantic Coast within the boundaries of the North Atlantic Division of the Corps that were affected by Hurricane Sandy.” In partial fulfillment of the requirements detailed within the Act, the USACE identified authorized USACE projects for reducing flooding and storm risks that have been constructed or are under construction that could be re-evaluated under the new guidelines; the existing East Rockaway Inlet to Rockaway Inlet and Jamaica Bay, NY project met the criteria for re-evaluation.

Because the reformulation for the Jamaica Bay portion of the study area had not been advanced prior to Hurricane Sandy, the Corps accelerated the reformulation effort for the back-bay portion of the study. The Corps is currently integrating the advanced plan formulation effort for the shorefront with the relatively recent planning effort for the back-bay into a single comprehensive document to address the entire system. Acknowledging the amount of analyses required to comprehensively reevaluate the study area considering the influence of the Atlantic Ocean shorefront conditions on the back-bay system, a single Hurricane Sandy General Reevaluation Report and EIS (GRR/EIS) will be prepared. The Corps will use a tiered process to facilitate project decision-making. The EIS will build upon the extensive Atlantic shoreline alternatives analysis and environmental and technical studies and outreach conducted to date. The proposed tiering approach will allow the study to focus on both broad overall Jamaica Bay-wide issues while simultaneously assessing site specific impacts, costs and mitigation measures for the shorefront and back-bay alternatives. The scope of analysis in the Tier 1 and Tier 2 will be appropriate to the level of detail necessary for those documents and will receive input from the public and reviewing agencies. The Tier 1 shoreline analysis will provide the basis for the alternatives to problems associated with erosion, storm surge, and wave damage along the Atlantic Ocean shoreline and the Tier 2 analysis will address the flooding of communities within and surrounding Jamaica Bay.

2. Study Area

The study area encompasses the Atlantic Coast of New York City between East Rockaway Inlet and Rockaway Inlet, and the water and lands within and surrounding Jamaica Bay, New York. The southern extent of the study area is the Atlantic Ocean and shorefront along the Rockaway Peninsula which separates the Atlantic Ocean from Jamaica Bay immediately to the north.

3. USACE Decision Making

Developing the alternatives formulation, engineering design and environmental consequences assessment into a single GRR/EIS allows the New York District to comprehensively evaluate the project as a system. However, the USACE acknowledges that the shorefront and back-bay segments may not concurrently be ready for a recommendation. The shorefront portion of the project has undergone extensive alternatives analysis, while the back-bay re-evaluation process is in its earlier stages. Additionally, the shorefront measures being evaluated have been the subject of considerable public and agency coordination while these essential coordination efforts have not been completed for the back-bay alternatives.

As a result, the Corps will develop the HSGRR/EIS evaluating the entire area, but will tier the decisions (i.e., issue separate records of decision) on the respective areas. This decision making approach will allow time to address agency policy issues and build consensus among cooperating agencies and the public. This option to issue multiple records of decision based on a single EIS is available to the USACE because of the flexibility in the NEPA process as described in the President's Council on Environmental Quality's (CEQ) NEPA-Implementing Regulations.

4. Public Participation

The USACE invites public comment on the scope of the issues and alternatives to be addressed in the draft EIS. Input will be received through public meetings with both oral and written comments being provided; written comments may be submitted at any time during the process. The New York District will host a series of three public scoping meetings to receive comments on the proposed scope of issues to be evaluated in the draft environmental impact statement. Each of the public meetings will begin with an informal open house from 5:00 p.m. to 6:00 p.m. followed by the formal meeting from 7:00-9:00 p.m.

Two public meetings have been scheduled with a third TBD. The first will be held at the Knights of Columbus (333 Beach 90th Street, Rockaway Beach, NY 11693) on April 22, 2015 between 6:30-9:30 p.m. The second is scheduled at the Ryan Visitor Center (50 Aviator Road Brooklyn, NY 11234) for Wednesday, April 29 from 6:00-8:00 p.m.

5. Lead and Cooperating Agencies

The U.S. Army Corps of Engineers is the lead federal agency for the preparation of the environmental impact statement (EIS) and meeting the requirements of the National Environmental Policy Act and the NEPA Implementing Regulations of the President's Council on Environmental Quality (40 CFR parts 1500-1508). Within the study area, the National Park Service (NPS) manages the over 19,000-acre Jamaica Bay Unit of the Gateway National Recreation Area. Many of the actions evaluated within the EIS could occur within the National Recreation Area. Federal agencies interested in participating as a Cooperating Agency are requested to submit a letter of intent to Colonel Paul E. Owen, District Engineer (see ADDRESSES). The preparation of the EIS will be coordinated with New York State and New York City agencies with discretionary authority relative to the proposed actions. The Draft EIS is currently scheduled for distribution to the public November 2015.

Dated: March 26, 2015.
Peter M. Weppler,
Chief, Environmental Analysis Branch, Planning Division.

[FR Doc. 2015-07580 Filed 4-1-15; 8:45 am]

BILLING CODE CODE 3720-58-P